DEPARTMENT OF COMMERCE

International Trade Administration

A-122-822

Notice of Extension of Time Limit for Final Results of Antidumping Duty Administrative Review: Certain Corrosion-Resistant Carbon Steel Flat Products from Canada

AGENCY: Import Administration, International Trade Administration, Department of Commerce.

EFFECTIVE DATE: January 10, 2007.

FOR FURTHER INFORMATION CONTACT: Douglas Kirby or Joshua Reitze, AD/CVD Operations, Office 6, Import Administration, International Trade Administration, U.S. Department of Commerce, 14th Street and Constitution Avenue, NW, Washington, DC 20230; telephone: (202) 482-3782 or (202) 482-0666, respectively.

SUPPLEMENTARY INFORMATION:

Background

On September 11, 2006, the Department of Commerce (the Department) published the preliminary results of the administrative review of the antidumping duty order on certain corrosion-resistant carbon steel flat products from Canada for the period of August 1, 2004, through July 31, 2005 (see Certain Corrosion-Resistant Carbon Steel Flat Products from Canada: Preliminary Results of Antidumping Duty Administrative Review, 71 FR 53363, September 11, 2006) (Preliminary Results). The current deadline for the final results of this review is January 9, 2007.

Extension of Time Limit for Final Results of Review

Section 751(a)(3)(A) of the Tariff Act of 1930, as amended (the Act), requires the Department to issue the final results in an administrative review within 120 days of the date on which the preliminary results were published. However, if it is not practicable to complete the review within this time period, section 751(a)(3)(A) of the Act allows the Department to extend the time limit for the final results to 180 days from the date of publication of the preliminary results.

The Department needs additional time to analyze the case briefs and rebuttal comments. Therefore, the Department finds that it is not practicable to complete the review by the original deadline of January 9, 2007. Consequently, in accordance with section 751(a)(3)(A) of the Act and section 351.213(h)(2) of the Department's regulations, the Department is extending the time limit for the completion of the final results of the review until no later than March 10, 2007, which is 180 days from the publication of the preliminary results.

This notice is issued and published in accordance with section 751(a)(3)(A) of the Act.

Dated: January 3, 2007.
Stephen J. Claeys,
Deputy Assistant Secretary for Import Administration

[FR Doc. E7-196 Filed 1-9-07; 8:45 am]

BILLING CODE 3510-DS-S